DEPARTMENT OF LABOR

Occupational Safety and Health Administration

[Docket No. ICR-1218-0218(2004)]

Hydrostatic Testing Provision of the Portable Fire Extinguishers Standard; Extension of the Office of Management and Budget's (OMB) Approval of Information Collection (Paperwork) Requirements

AGENCY: Occupational Safety and Health Administration (OSHA), Labor.

ACTION: Request for comment.

SUMMARY: OSHA solicits comments concerning its proposal to extend OMB approval of the information collection requirement contained in the Hydrostatic Testing Provision of the Portable Fire Extinguishers Standard (29 CFR 1910.157(f)(16)). The paperwork provision of the hydrostatic testing provision specifies requirements for developing and maintaining certification records to demonstrate that portable fire extinguishers have been tested in accordance with and at intervals specified by the Standard (29 CFR 1910.157(f)(16)). The purpose of the requirement is to reduce employees' risk of death or serious injury by ensuring that portable fire extinguishers are in safe operating condition.

DATES: Comments must be submitted by the following dates:

Hard copy: Your comments must be submitted (postmarked or received) by May 25, 2004.

Facsimile and electronic transmission: Your comments must be received by May 25, 2004.

ADDRESSES:

I. Submission of Comments

Regular mail, express delivery, hand delivery, and messenger service: Submit your comments and attachments to the OSHA Docket Office, Docket No. ICR 1218-0218(2004), Room N-2625, U.S. Department of Labor, 200 Constitution Avenue, NW., Washington, DC 20210. OSHA Docket Office and Department of Labor hours of operation are: 8:15 a.m. to 4:45 p.m., e.s.t.

Facsimile: If your comments, including any attachments, are 10 pages or fewer, you may fax them to the OSHA Docket Office at (202) 693-1648. You must include the docket number, ICR 1218-0218(2004), in your comments.

Electronic: You may submit comments, but not attachments, through the Internet at http://ecomments.osha.gov/.

II. Obtaining Copies of the Supporting Statement for the Information Collection Request

The Supporting Statement for the Information Collection Request (ICR) is available for downloading from OSHA's Web site at http://www.osha.gov. The supporting statement is available for inspection and copying in the OSHA Docket Office, at the address listed above. A printed copy of the ICR can be obtained by contacting Theda Kenney at (202) 693-2222.

FOR FURTHER INFORMATION CONTACT: Theda Kenney, Directorate of Standards and Guidance, OSHA, U.S. Department of Labor, Room N-3609, 200 Constitution Avenue, NW., Washington, DC 20210; telephone (202) 693-2222.

SUPPLEMENTARY INFORMATION:

I. Submission of Comments on This Notice and Internet Access to Comments and Submissions

You may submit comments in response to this document by (1) hard copy, (2) fax transmission (facsimile), or (3) electronically through the OSHA Web page. Please note you cannot attach materials such as studies or journal articles to electronic comments. If you have additional materials, you must submit three copies of them to the OSHA Docket Office at the address above. The additional materials must clearly identify your electronic comments by name, date, subject and docket number so we can attach them to your comments. Because of security-related problems, there may be a significant delay in the receipt of comments by regular mail. Please contact the OSHA Docket Office at (202) 693-2350 for information about security procedures concerning the delivery of materials by express delivery, hand delivery, and messenger service.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is correct. The Occupational Safety and Health Act of 1970 (the “Act”) authorizes information collection by employers regarding the causes and prevention of occupational injuries, illnesses, and accidents (29 U.S.C. 657).

The following section describes who uses the information on the hydrostatic testing of portable fire extinguishers that is collected under the records requirement (29 CFR 1910.157(f)(16)), as well as how they use it. The purpose of the requirement is to reduce employees' risk of death or serious injury by ensuring that portable fire extinguishers are in safe operating condition.

The following describes who uses the information in the certification record, as well as how they use it. The purpose of the requirement is to reduce employees' risk of death or serious injury by ensuring that portable fire extinguishers are in safe operation condition.

Test Records (§ 1910.157(f)(16))

Paragraph (f)(16) requires employers to develop and maintain a certification record of hydrostatic testing of portable fire extinguishers. The certification record must include the date of inspection, the signature of the person who performed the test, and the serial number (or other identifier) of the fire extinguisher that was tested.

Disclosure of Test Certification Records

The certification record must be made available to the Assistant Secretary or his representative upon request. The certification record provides assurance to employers, employees, and OSHA compliance officers that the fire extinguishers have been hydrostatically tested in accordance with and at the intervals specified in § 1910.157(f)(16), thereby ensuring that they will operate properly in the event employees need to use them. Additionally, these records provide the most efficient means for compliance officers to determine that an employer is complying with the hydrostatic testing provision.

III. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

IV. Proposed Actions

OSHA is proposing to extend the information collection requirement in the Hydrostatic Testing Provision of the Portable Fire Extinguishers Standard (29 CFR 1910.157(f)(16)). OSHA will summarize the comments submitted in response to this notice, and will include this summary in the request to OMB to extend the approval of the information collection requirement.

Type of Review: Extension of a currently-approved information-collection requirement.

Title: The Hydrostatic Testing Provision of the Portable Fire Extinguishers Standard (29 CFR 1910.157(f)(16)).

OMB Number: 1218-0218.

Affected Public: Business or other for-profit; not-for-profit institutions; State, local or tribal government; Federal government.

Number of Respondents: 9,000,000.

Frequency of Recordkeeping: On occasion.

Average Time per Response: Varies from one minute (.02 hour) to maintain a certification record of fire extinguishers tested off-site to 32 minutes (.55 hour) to test fire extinguishers on-site and to generate and maintain the certification record.

Total Annual Hours Requested: 123,180.

Estimate Cost (Operation and Maintenance): $12,240,000.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed in Washington, DC, on March 23, 2004.
John L. Henshaw,
Assistant Secretary of Labor.

[FR Doc. 04-6849 Filed 3-25-04; 8:45 am]

BILLING CODE 4510-26-M